DEPARTMENT OF THE TREASURY

Solicitation of Nominations for Membership on the Treasury Advisory Committee on Racial Equity

AGENCY: Department of the Treasury.

ACTION: Solicitation of nominations for membership of the Treasury Advisory Committee on Racial Equity; application deadline extension.

SUMMARY: The Treasury Department is soliciting nominations for membership on the Treasury Advisory Committee on Racial Equity (TACRE). The TACRE is composed of up to 15 members who will provide information, advice and recommendations to the Department of the Treasury on matters relating to the advancement of racial equity. This notice extends the deadline for applications for committee membership.

DATES: The application deadline for the notice published March 14, 2024 at 89 FR 18703, is extended. Applications are due on or before May 20, 2024.

FOR FURTHER INFORMATION CONTACT: Rhianna Rogers, Chief Diversity, Equity, inclusion, and Accessibility (DEIA) Officer, Department of Treasury, by emailing Equity@Treasury.gov or by calling (202) 622-3644 (this is not a toll-free number). For persons who are deaf, hard of hearing, have a speech disability or difficulty speaking may dial 7-1-1 to access telecommunications relay services.

SUPPLEMENTARY INFORMATION:

Application Process for Advisory Committee Appointment

Applicants are required to submit the following documents specifically referencing the objectives and duties outlined above:

• A one (1) page cover letter detailing their qualifications and areas of expertise as they relate to the key issues before the committee; and

• A two (2) page resume/curriculum vitae, which should clearly highlight relevant experience that addresses the focus areas of TACRE.

Nominations may be submitted by the candidate themselves or by the person/organization recommending the candidate.

Some members of the Committee may be required to adhere to the conflict-of-interest rules applicable to Special Government Employees, as such employees are defined in 18 U.S.C. 202(a). These rules include relevant provisions in 18 U.S.C. related to criminal activity, Standards of Ethical Conduct for Employees of the Executive Branch (5 CFR part 2635), and Executive Order 12674 (as modified by Executive Order 12731).

In accordance with Department of Treasury Directive 21-03, a clearance process includes fingerprints, tax checks, and a Federal Bureau of Investigation criminal check. Applicants must state in their application that they agree to submit to these pre-appointment checks.

The application period for interested candidates will extend to the date outlined above. Applications should be submitted in sufficient time to be received by the close of business on the closing date and should be sent to Equity@treasury.gov. If you require reasonable accommodation to submit your application, please contact the Departmental Offices Reasonable Accommodations Coordinator at ReasonableAccommodationRequests@treasury.gov. Please make sure your request to the Reasonable Accommodations Coordinator is made at least five (5) days prior to the close of the application period, if possible.

Pursuant to the Federal Advisory Committee Act (FACA) (5 U.S.C. 1001 et seq., as amended), the Department of the Treasury (“Department”) established the TACRE in order to carry out the provisions of Executive Order 13985, Advancing Racial Equity and Support for Underserved Communities Throughout the Federal Government.

On March 14, 2024 (89 FR 18703), the Department announced in the Federal Register the application process for committee membership. The application deadline announced in the notice was April 20, 2024. In order to provide additional opportunity for applications, the Department is extending the deadline to May 20, 2024.

Dated: April 19, 2024.
Snider Page,
Director, Office of Civil Rights and EEO and Designated Federal Officer.

[FR Doc. 2024-08812 Filed 4-24-24; 8:45 am]

BILLING CODE 4810-AK-P